ENVIRONMENTAL PROTECTION AGENCY

40 CFR Part 52

[EPA-R01-OAR-2023-0189; FRL-10876-02-R1]

Air Plan Approval; Connecticut; New Source Review Permit Program State Plan Revision

AGENCY: Environmental Protection Agency (EPA).

ACTION: Final rule.

SUMMARY: The Environmental Protection Agency (EPA) is approving revisions to the Connecticut State Implementation Plan (leSIP) concerning ruits New Source Review (NSR) permit program. The Connecticut Department of Energy and Environmental Protection (CT DEEP) submitted these revisions on December 15, 2020, as well as a supplemental letter on February 14, 2023. The revised SIP incorporates various updates to CT DEEP's NSR procedural requirements, substantive review criteria, provisions related to the control of volatile organic compounds (VOCs), and clarifying revisions to existing SIP-approved regulations. EPA is also fully approving the state's infrastructure SIP for the 2015 National Ambient Air Quality Standards (NAAQS) ozone standard, which was previously conditionally approved.

DATES: This rule is effective on October 5, 2023.

ADDRESSES: EPA has established a docket for this action under Docket Identification No. EPA-R01-OAR-2023-0189. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Jessica Kilpatrick, Air Permits, Toxics, and Indoor Programs Branch, Air and Radiation Division, U.S. Environmental Protection Agency, Region 1, 5 Post Office Square, APTB05-2, Boston, MA 02109-0287. Telephone: 617-918-1652. Fax: 617-918-0652 Email: kilpatrick.jessica@epa.gov.

SUPPLEMENTARY INFORMATION:

Table of Contents

I. Background and Purpose

II. Response to Comments

III. Final Action

IV. Incorporation by Reference

V. Statutory and Executive Order Reviews

I. Background and Purpose

On April 11, 2023, EPA published a Notice of Proposed Rulemaking (NPRM) for the State of Connecticut. The NPRM proposed approving CT DEEP's revised SIP for its NSR permit program at Regulations of Connecticut State Agencies (RCSA) 22a-174-2a, 22a-174-3a, and 22a-174-20. The NPRM also proposed to convert a conditional approval to full approval for the 2015 NAAQS ozone standard infrastructure SIP as it relates to Clean Air Act (CAA) section 110(a)(2)(K) and for the Prevention of Significant Deterioration (PSD) requirements of CAA sections 110(a)(2)(D)(i)(II), 110(a)(2)(C), and 110(a)(2)(J). CT DEEP initially submitted a formal SIP revision to EPA on December 15, 2020, and a supplemental clarification letter was submitted on February 14, 2023. The rationale for EPA's proposed approval of the revised SIP is explained in the NPRM and will not be restated here. No germane comments were received regarding the NPRM.

II. Response to Comments

EPA received four comments during the comment period, all of which were identical and outside the scope of this action. As such, these comments are nongermane and do not require further response to finalize the action as proposed. Nevertheless, EPA is including these comments in the docket for this rule.

III. Final Action

EPA is approving CT DEEP's revised SIP for its NSR permit program as well as converting a conditional approval to a full approval for 2015 NAAQS ozone standard requirements in the Connecticut infrastructure SIP. Specifically, EPA is amending 40 CFR part 52, subpart H—Connecticut to include revisions to RCSA 22a-174-2a (Procedural Requirements for New Source Review and Title V Permitting), 22a-174-3a (Permit to Construct and Operate Stationary Sources), and 22a-174-20 (Control of Organic Compound Emissions) and is updating the CAA 110(a)(2) infrastructure requirements. Specifically, EPA is approving revisions to:

• Regulations of Connecticut State Agencies Section 22a-174-2a “Procedural Requirements for New Source Review and Title V Permitting,” 22a-174-2a(c)(3), 22a-174-2a(d)(9), 22a-174-2a(e)(3)(C), 22a-174-2a(e)(3)(E), 22a-174-2a(e)(7), 22a-174-2a(f)(2), and 22a-174-2a(f)(2)(G), amended by the State of Connecticut on November 18, 2020;

• Regulations of Connecticut State Agencies Section 22a-174-3a, “Permit to Construct and Operate Stationary Sources,” at 22a-174-3a(a)(2)(A)(ii) through (v), 22a-174-3a(a)(5), 22a-174-3a(d)(3)(B) and (C), 22a-174-3a(i) Table 3a(i)-1, 22a-174-3a(i)(2), 22a-174-3a(j)(1)(B), 22a-174-3a(j)(8)(A), 22a-174-3a(k)(3) and (4), 22a-174-3a(k)(6)(A), 22a-174-3a(k)(7) Table 3a(k)-1, and 22a-174-3a(l)(1), amended by the State of Connecticut on November 18, 2020; and

• Regulations of Connecticut State Agencies Section 22a-174-20, “Control of Organic Compound Emissions,” at 22a-174-20(gg)(8), amended by the State of Connecticut on November 18, 2020.

IV. Incorporation by Reference

In this rule, EPA is finalizing regulatory text that includes incorporation by reference. In accordance with requirements of 1 CFR 51.5, EPA is finalizing the incorporation by reference of the provisions regulating NSR permitting as described in section III. of this preamble. These provisions update the CT DEEP's NSR procedural requirements, add to substantive review criteria for CT DEEP's NSR permitting process, and revise provisions related to the control of VOCs. EPA has made, and will continue to make, these documents generally available through https://www.regulations.gov and at EPA Region 1 Office (please contact the person identified in the FOR FURTHER INFORMATION CONTACT section of this preamble for more information).

V. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and will not impose substantial direct costs on Tribal Governments or preempt tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

CT DEEP did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 6, 2023. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects in 40 CFR Part 52

Environmental protection, Air pollution control, Administrative practice and procedure, Incorporation by reference, Intergovernmental relations, Reporting and recordkeeping requirements.

Dated: August 28, 2023.
David Cash,
Regional Administrator, EPA Region 1.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.370 is amended by adding paragraph (c)(129) to read as follows:

§ 52.370 Identification of plan.

* * * * *

(c) * * *

(129) Revisions to the State Implementation Plan submitted by the Connecticut Department of Environmental Protection on December 15, 2020, and supplemented on February 14, 2023.

(i) Incorporation by reference.

(A) Regulations of Connecticut State Agencies Section 22a-174-2a “Procedural Requirements for New Source Review and Title V Permitting,” 22a-174-2a(c)(3), 22a-174-2a(d)(9), 22a-174-2a(e)(3)(C), 22a-174-2a(e)(3)(E), 22a-174-2a(e)(7), 22a-174-2a(f)(2), and 22a-174-2a(f)(2)(G), amended by the State of Connecticut on November 18, 2020.

(B) Regulations of Connecticut State Agencies Section 22a-174-3a, “Permit to Construct and Operate Stationary Sources,” at 22a-174-3a(a)(2)(A)(ii) through (v), 22a-174-3a(a)(5), 22a-174-3a(d)(3)(B) and (C), 22a-174-3a(i) Table 3a(i)-1, 22a-174-3a(i)(2), 22a-174-3a(j)(1)(B), 22a-174-3a(j)(8)(A), 22a-174-3a(k)(3) and (4), 22a-174-3a(k)(6)(A), 22a-174-3a(k)(7) Table 3a(k)-1, and 22a-174-3a(l)(1), amended by the State of Connecticut on November 18, 2020.

(C) Regulations of Connecticut State Agencies Section 22a-174-20, “Control of Organic Compound Emissions,” at 22a-174-20(gg)(8), amended by the State of Connecticut on November 18, 2020.

(ii) Additional materials.

(A) Letter from CT DEEP submitted to EPA on December 15, 2020, entitled “State Implementation Plan Revision Concerning the New Source Review Permit Program Update.”

(B) Letter from CT DEEP submitted to EPA on February 14, 2023, entitled “Re: Supplement to the State Implementation Plan Revision Concerning the NSR Program Update.”

3. Section 52.385 is amended in Table 52.385 by adding:

a. A third entry for “22a-174-2a” before the entry for “22a-174-3;

b. A sixth entry for “22a-174-3a” before the entry for ” 22a-174-3b”; and

c. A fifth entry for ” 22a-174-20” before the entry “22a-174-21”.

The additions read as follows:

§ 52.385 EPA-approved Connecticut regulations.

* * * * *

Table 52.385—EPA-Approved Regulations
Connecticut state citation | Title/subject | Dates: Date adopted by State | Dates: Date approved by EPA | Federal Register citation | Section 52.370 | Comments/description
* * * * * * *
22a-174-2a | Procedural Requirements for New Source Review and Title V Permitting | 11/18/20 | 9/5/23 | [INSERT Federal Register CITATION] | (c)(129) | Revisions made to 22a-174-2a(c)(3), 22a-174-2a(d)(9), 22a-174-2a(e)(3)(C), 22a-174-2a(e)(3)(E), 22a-174-2a(e)(7), 22a-174-2a(f)(2), and 22a-174-2a(f)(2)(G).
* * * * * * *
22a-174-3a | Permit to Construct and Operate Stationary Sources | 11/18/20 | 9/5/23 | [INSERT Federal Register CITATION] | (c)(129) | Revisions made to 22a-174-3a(a)(2)(A)(ii) through (v), 22a-174-3a(a)(5), 22a-174-3a(d)(3)(B) and (C), 22a-174-3a(i) Table 3a(i)-1, 22a-174-3a(i)(2), 22a-174-3a(j)(1)(B), 22a-174-3a(j)(8)(A), 22a-174-3a(k)(3) and (4), 22a-174-3a(k)(6)(A), 22a-174-3a(k)(7) Table 3a(k)-1, and 22a-174-3a(l)(1).
* * * * * * *
22a-174-20 | Control of Organic Compound Emissions | 11/18/20 | 9/5/23 | [INSERT Federal Register CITATION] | (c)(129) | Revisions made to 22a-174-20(gg)(8).
* * * * * * *

4. Section 52.386 is amended by revising paragraph (e) to read as follows:

§ 52.386 Section 110(a)(2) infrastructure requirements.

* * * * *

(e) CT DEEP submitted an infrastructure SIP for the 2015 ozone NAAQS on September 7, 2018. This infrastructure SIP was approved, with the exception of CAA section 110(a)(2)(K) and the PSD-related requirements of CAA sections 110(a)(2)(D)(i)(II), 110(a)(2)(C), and 110(a)(2)(J), which were conditionally approved. On December 15, 2020, CT DEEP submitted SIP revisions to address the conditional approval. EPA fully approves the revised infrastructure SIP for the 2015 ozone NAAQS.

* * * * *

[FR Doc. 2023-18909 Filed 9-1-23; 8:45 am]

BILLING CODE 6560-50-P